DEPARTMENT OF AGRICULTURE

Submission for OMB Review; Comment Request

March 6, 2007.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal & Plant Health Inspection Service

Title: National Animal Health Monitoring System Dairy 2007.

OMB Control Number: 0579-0205.

Summary of Collection: Collection and dissemination of animal health data and information is mandated by 7 U.S.C. 391, the Animal Industry Act of 1884, which established the precursor of the Animal and Plant Health Inspection Service (APHIS), Veterinary Services, the Bureau of Animal Industry. The collection, analysis and dissemination of livestock and poultry health information on a national basis are consistent with the APHIS mission of protecting and improving American agriculture's productivity and competitiveness. In connection with this mission, the National Animal Health Monitoring System's (NAHMS) program includes periodic national commodity studies to investigate animal health related issues and examine general health and management practices used on farms. NAHMS will initiate the fourth national data collection for dairy through Dairy 2007. The Dairy 2007 study is a part of an ongoing series of NAHMS studies on the U.S. dairy population.

Need and Use of the Information: The purpose of this fourth dairy study is to collect information, through questionnaires and biologic sampling to help the United States detect trends in the management, production, and health status of the nation's dairy industry over time. Without this type of national data, the U.S.'s ability to detect trends in management, production, and health status, either directly or indirectly, would be reduced or nonexistent.

Description of Respondents: Farms.

Number of Respondents: 4000.

Frequency of Responses: Reporting; annually.

Total Burden Hours: 7,888.

Ruth Brown,
Departmental Information Collection Clearance Officer.

[FR Doc. E7-4299 Filed 3-9-07; 8:45 am]

BILLING CODE 3410-34-P